ENVIRONMENTAL PROTECTION AGENCY

40 CFR Part 52

[TN-213-9952(b); FRL-7506-7]

Approval and Promulgation of Implementation Plans Tennessee: Approval of Revisions to the Tennessee State Implementation Plan

AGENCY: Environmental Protection Agency (EPA).

ACTION: Proposed rule.

SUMMARY: The EPA is approving revisions to the Tennessee Department of Environment and Conservation's definitions of Volatile Organic Compounds submitted on February 3, 1999, by the State of Tennessee. These revisions are designed for the State Implementation Plan (SIP) to attain the national ambient air quality standards (NAAQS) for ozone under title I of the Clean Air Act (CAA). The additional compounds HFC43-10mee, HCFC-225ca, and HCFC-225cb are added to the list of exempt compounds on the basis that they have negligible contribution to the tropospheric ozone formation.

In the Final Rules section of this Federal Register, the EPA is approving the State's SIP revision as a direct final rule without prior proposal because the Agency views this as a noncontroversial submittal and anticipates no adverse comments. A detailed rationale for the approval is set forth in the direct final rule. If no significant, material, and adverse comments are received in response to this rule, no further activity is contemplated. If EPA receives adverse comments, the direct final rule will be withdrawn and all public comments received will be addressed in a subsequent final rule based on this rule. The EPA will not institute a second comment period on this document. Any parties interested in commenting on this document should do so at this time.

DATES: Written comments must be received on or before July 3, 2003.

ADDRESSES: All comments should be addressed to: Steve Scofield or Nacosta Ward; Regulatory Development Section; Air Planning Branch; Air, Pesticides, and Toxics Management Division; U. S. Environmental Protection Agency Region 4; 61 Forsyth Street, SW., Atlanta, Georgia 30303-8960.

Copies of the State submittal(s) are available at the following addresses for inspection during normal business hours: Environmental Protection Agency, Region 4, Air Planning Branch, 61 Forsyth Street, SW., Atlanta, Georgia 30303-8960. (Steve Scofield, 404/562-9034 or Nacosta Ward, 404/562-9140). Tennessee Department of Environment and Conservation, Division of Air Pollution Control, L & C Annex, 9th Floor, 401 Church Street, Nashville, Tennessee 37243-1531. 615-532-0554.

FOR FURTHER INFORMATION CONTACT: Steve Scofield or Nacosta Ward; Regulatory Development Section; Air Planning Branch; Air, Pesticides, and Toxics Management Division; U. S. Environmental Protection Agency Region 4; 61 Forsyth Street, SW., Atlanta, Georgia 30303-8960. Mr. Scofield and Ms. Ward can also be reached by telephone at 404/562-9034 and 404/562-9140, or by electronic mail at scofield.steve@epa.gov and ward.nacosta@epa.gov, respectively.

SUPPLEMENTARY INFORMATION: For additional information see the direct final rule which is published in the Rules section of this Federal Register.

Dated: May 20, 2003.
A. Stanley Meiburg,
Acting Regional Administrator, Region 4.

[FR Doc. 03-13708 Filed 6-2-03; 8:45 am]

BILLING CODE 6560-50-P